ENVIRONMENTAL PROTECTION AGENCY

40 CFR Part 52

[EPA-R09-OAR-2012-0732; FRL-9739-4]

Approval of Air Quality Implementation Plans; California; Eastern Kern, Imperial County, Placer County, and Yolo-Solano; Prevention of Significant Deterioration

AGENCY: Environmental Protection Agency (EPA).

ACTION: Proposed rule.

SUMMARY: EPA is proposing approval of revisions to the California State Implementation Plan (SIP) under the Clean Air Act (CAA or Act). EPA is proposing approval of four permitting rules submitted for the Eastern Kern Air Pollution Control District (EKAPCD), Imperial County Air Pollution Control District (ICAPCD), Placer County Air Pollution Control District (PCAPCD), and Yolo-Solano Air Quality Management District (YSAQMD) portions of the California SIP. The State of California is required under Part C of title I of the Act to adopt and implement a SIP-approved Prevention of Significant Deterioration (PSD) permit program. We are proposing to revise the SIP to incorporate EKAPCD Rule 210.4—Prevention of Significant Deterioration, ICAPCD Rule 904—Prevention of Significant Deterioration (PSD) Permit Program, PCAPCD Rule 518—Prevention of Significant Deterioration (PSD) Permit Program, and YSAQMD Rule 3.24—Prevention of Significant Deterioration. The approval of these rules would establish a PSD permit program in each District for pre-construction review of certain new and modified major stationary sources in attainment or unclassifiable areas. We are soliciting comments on this proposal. In the “Rules” section of this Federal Register, we are approving these California SIP revisions as a direct final rule without a prior proposed rule. If we receive no adverse comment, we will not take further action on this proposed rule. If we receive adverse comment, we will publish a timely withdrawal in the Federal Register informing the public that this rule, or the relevant provisions of the rule, will not take effect, and all public comments received will be addressed in any subsequent final rule based on this proposed rule.

DATES: Any comments must be submitted no later than January 9, 2013.

ADDRESSES: Submit comments, identified by docket number EPA-R09-OAR-2012-0732, by one of the following methods:

1. Federal eRulemaking Portal: www.regulations.gov. Follow the on-line instructions.

2. Email: R9airpermits@epa.gov.

3. Mail or deliver: Gerardo Rios (Air-3), U.S. Environmental Protection Agency Region IX, 75 Hawthorne Street, San Francisco, CA 94105-3901.

Please see the direct final rule which is located in the “Rules” section of this Federal Register for detailed instructions on how to submit comments.

FOR FURTHER INFORMATION CONTACT: Lisa Beckham, Permits Office (AIR-3), U.S. Environmental Protection Agency, Region IX, (415) 972-3811, beckham.lisa@epa.gov.

SUPPLEMENTARY INFORMATION: This document proposes to approve revisions to the California SIP to incorporate EKAPCD Rule 210.4—Prevention of Significant Deterioration, ICAPCD Rule 904—Prevention of Significant Deterioration (PSD) Permit Program, PCAPCD Rule 518—Prevention of Significant Deterioration (PSD) Permit Program, and YSAQMD Rule 3.24—Prevention of Significant Deterioration. The State of California is required under Part C of title I of the Act to adopt and implement a SIP-approved PSD permit program. The approval of these rules would establish a PSD permit program in each District for pre-construction review of certain new and modified major stationary sources in attainment or unclassifiable areas. Because the State of California does not currently have a SIP-approved PSD program within EKAPCD, ICAPCD, PCAPCD, and YSAQMD (referred to hereinafter as the “Districts”), EPA is currently the PSD permitting authority for each District. Inclusion of these rules into the SIP will transfer PSD permitting authority from EPA to the Districts. EPA will assume the role of overseeing the PSD permitting program within each District.

We have published a direct final rule approving these revisions in the “Rules” section of this Federal Register because we view this as a noncontroversial action and anticipate no adverse comment. We have explained our reasons for this action and provided detailed information about the action in the preamble to the direct final rule. The regulatory text for this proposal is identical to that for the direct final rule. For additional information, including the regulatory text, see the direct final rule in the “Rules” section of this Federal Register.

If no adverse comments are received, we will not take further action on this proposed rule. If EPA receives adverse comment, we will publish a timely withdrawal in the Federal Register informing the public that this rule will not take effect, and all public comments received will be addressed in any subsequent final rule based on this proposed rule. Please note that if EPA receives adverse comment on a distinct provision of this rule and that provision may be severed from the remainder of the rule, EPA may adopt as final those provisions of the rule that are not the subject of an adverse comment. In such case, EPA would publish a timely withdrawal in the Federal Register indicating which provisions we are withdrawing. The provisions that are not withdrawn would then become effective on the date set out in the direct final rule, notwithstanding adverse comment on any other provision.

EPA does not intend to institute a second comment period on this action. Any parties interested in commenting on this action must do so at this time. For further information about commenting on this action, please see the information provided in the ADDRESSES section of this document and refer to the direct final rule in the “Rules” section of this Federal Register.

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Dated: September 25, 2012.
Jared Blumenfeld,
Regional Administrator, Region IX.

[FR Doc. 2012-29536 Filed 12-7-12; 8:45 am]

BILLING CODE 6560-50-P